DEPARTMENT OF LABOR

Employment and Training Administration

[NAFTA-06403]

Copper Wiring Devices, Division of Cooper Industries a/k/a Eagle Electronic Manufacturing Co., Long Island City, NY; Notice of Termination of Investigation

Pursuant to Title V of the North American Free Trade Agreement Implementation Act (Pub.L. 103-182) concerning transitional adjustment assistance, hereinafter called (NAFTA-TAA), and in accordance with Section 250(a), Subchapter D, Chapter 2, Title II, of the Trade Act of 1974, as amended (19 U.S.C. 2273), an investigation was initiated on July 23, 2002, in response to a petition filed on behalf of workers at Cooper Wiring Devices, Division of Cooper Industries, previously known as Eagle Electronic Manufacturing Company, Long Island City, New York.

The petitioning worker group is covered under an existing certification, NAFTA-4807. Consequently, further investigation in this case would serve no purpose, and the investigation has been terminated.

Signed at Washington, DC, this 6th day of September, 2002.
Elliott S. Kusner,
Certifying Officer, Division of Trade Adjustment Assistance.

[FR Doc. 02-24118 Filed 9-20-02; 8:45 am]

BILLING CODE 4510-30-P